DEPARTMENT OF TRANSPORTATION

Office of the Secretary

Aviation Proceedings, Agreements Filed the Week Ending December 24, 2004

The following Agreements were filed with the Department of Transportation under the provisions of 49 U.S.C. Sections 412 and 414. Answers may be filed within 21 days after the filing of the application.

Docket Number: OST-2004-19942.

Date Filed: December 20, 2004.

Parties: Members of the International Air Transport Association.

Subject: PSC/Reso/121 dated December 3, 2004, Intended effective date: January 1 & January 15, 2005.

Docket Number: OST-2004-19958.

Date Filed: December 22, 2004.

Parties: Members of the International Air Transport Association.

Subject: PTC2 EUR 0594 dated 22 December 2004, PTC2 EUR-AFR 0214 dated 22 December 2004, Mail Vote 427—Resolution 010c—Special Passenger, Amending Resolution from Algeria, Intended effective date: 31 December 2004.

Maria Gulczewski,
Supervisory Dockets Officer, Alternate Federal Register Liaison.

[FR Doc. 05-229 Filed 1-5-05; 8:45 am]

BILLING CODE 4910-62-P